DEPARTMENT OF COMMERCE

International Trade Administration

[C-570-153; C-533-918]

Certain Paper Shopping Bags From the People's Republic of China and India: Postponement of Preliminary Determinations in the Countervailing Duty Investigations

AGENCY: Enforcement and Compliance, International Trade Administration, Department of Commerce.

DATES: Applicable August 7, 2023.

FOR FURTHER INFORMATION CONTACT: Seth Brown (the People's Republic of China (China)) and Paul Kebker (India), AD/CVD Operations, Offices IX and IV, Enforcement and Compliance, International Trade Administration, U.S. Department of Commerce, 1401 Constitution Avenue NW, Washington, DC 20230; telephone: (202) 482-0029 or (202) 482-2254, respectively.

SUPPLEMENTARY INFORMATION:

Background

On June 20, 2023, the U.S. Department of Commerce (Commerce) initiated countervailing duty (CVD) investigations of imports of certain paper shopping bags (paper bags) from China and India.¹ Currently, the preliminary determinations are due no later than August 24, 2023.

¹ See Certain Paper Shopping Bags from India and the People's Republic of China: Initiation of Countervailing Duty Investigations, 88 FR 41380 (June 26, 2023) (Initiation Notice).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny it.

On July 27, 2023, the petitioner submitted timely requests that Commerce postpone the preliminary determinations in these investigations.² The petitioner stated that, because the mandatory respondents have not yet submitted their initial questionnaire responses, additional time is needed to identify deficiencies in advance of the preliminary determinations so that Commerce can issue supplemental questionnaires.³

² See Petitioner's Letters, “Petitioner's Request for Extension Preliminary Determination Deadline,” dated July 27, 2023. The petitioner is the Coalition for Fair Trade in Shopping Bags the members of which are Novolex Holdings, LLC and the United Steel, Paper and Forestry, Rubber, Manufacturing, Energy, Allied Industrial and Service Workers International Union, AFL-CIO, CLC.

³ Id.

In accordance with 19 CFR 351.205(e), the petitioner has stated the reasons for requesting a postponement of the preliminary determinations, and Commerce finds no compelling reason to deny the requests. Therefore, in accordance with section 703(c)(1)(A) of the Act, Commerce is postponing the deadline for the preliminary determinations to no later than 130 days after the date on which this investigation was initiated, i.e., October 30, 2023.⁴ Pursuant to section 705(a)(1) of the Act and 19 CFR 351.210(b)(1), the deadline for the final determinations of these investigations will continue to be 75 days after the date of the preliminary determinations.

⁴ Because the extended deadline for these preliminary determinations falls on the weekend (i.e., October 28, 2023), the deadline becomes the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: August 1, 2023.
Lisa W. Wang,
Assistant Secretary for Enforcement and Compliance.

[FR Doc. 2023-16824 Filed 8-4-23; 8:45 am]

BILLING CODE 3510-DS-P